DEPARTMENT OF TRANSPORTATION

Federal Aviation Administration

14 CFR Part 73

[Docket No. FAA-2011-0104; Airspace Docket No. 11-AEA-2]

RIN 2120-AA66

Amendment to and Establishment of Restricted Areas; Warren Grove, NJ

AGENCY: Federal Aviation Administration (FAA), DOT.

ACTION: Final rule.

SUMMARY: This action establishes two new restricted areas at the Warren Grove Range, NJ. In addition, the using agency for all Warren Grove restricted areas is updated to reflect the current organization tasked with that responsibility. The FAA is taking this action to provide the airspace needed for realistic military training so that aircrews can acquire and maintain proficiency in high altitude weapons employment and other modern tactics.

DATES: Effective Dates: 0901 UTC, February 9, 2012.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On Wednesday, March 2, 2011, the FAA published in the Federal Register a notice of proposed rulemaking (NPRM) to expand the Warren Grove Range in order to raise the maximum altitude of the range (76 FR 11399). Interested parties were invited to participate in this rulemaking effort by submitting written comments on the proposal. Two comments were received. The commenters wrote that Warren Grove Range operations should be moved to another location that is less congested. As stated in the NPRM, military use of the airspace near Warren Grove, Ocean County, NJ, dates back to World War II. The range is currently used as the primary training complex by numerous fighter units. In addition, all four military services use the range for a variety of military air and ground training exercises. Since no other ranges that can accommodate essential high altitude weapons delivery and precision munitions training are located within a reasonable flying distance of the using units, it is impractical to relocate the Warren Grove Range.

The Rule

The FAA is amending to 14 CFR part 73 to establish two new restricted areas (designated R-5002F and R-5002G) at the Warren Grove Range, NJ. This action raises the restricted area ceiling at the range from 14,000 feet mean sea level (MSL) to flight level (FL) 230. In addition this action expands the lateral limits of restricted airspace at the range, but only between the altitudes of FL 200 and FL 230. The new R-5002F overlies the existing R-5002A, and R-5002E, and part of R-5002B, and extends from 14,000 feet MSL up to, but not including, FL 200. A second new restricted area, R-5002G, extends from FL 200 up to FL 230. R-5002G overlies the new R-5002F. To provide the required expanded lateral space between FL 200 and FL 230, the boundaries of R-5002G extend approximately 15 nautical miles (NM) to the northeast and 8 NM to the east, of the current range boundaries.

In addition to the establishment of R-5002F and R-5002G, the following minor changes to the descriptions of the existing Warren Grove restricted areas are made. The using agency for the five existing areas is changed from the “108th Air Refueling Wing, McGuire AFB, NJ,” to the “177th Fighter Wing, Atlantic City, NJ.” This change reflects current organization responsible for the range. The new wording change is made to add the words “to but not including” before the 14,000 foot altitude. The boundaries and times of use of R-5002A, B, C, D and E are not changed by this action. The designated altitudes for R-5002C and D remain as currently published.

Use of the newly established R-5002F and G will be coordinated on a real time basis. The two areas will only be activated with concurrent release by New York Air Route Traffic Control Center (ARTCC) and Washington ARTCC. To minimize potential impact to Instrument Flight Rules (IFR) traffic flows, the FAA will only authorize activation of these areas when New York and Washington ARTCCs determine there would be minimal to no impact on IFR traffic operating in the affected area. In addition, the FAA will be able to recall the airspace, if needed, on five minutes notice. A Letter of Agreement between New York ARTCC, Washington ARTCC and the using agency will define the roles, responsibilities and procedures for the activation of R-5002F and G. Pilots seeking information about the activity status of R-5002 should contact New York ARTCC on the frequency listed in the “Special Use Airspace” panel of the Washington Sectional Aeronautical Chart. New York ARTCC will continue to provide VFR traffic advisories, as prescribed in current FAA directives, to those aircraft requesting them.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies restricted area airspace at Warren Grove, NJ.

Environmental Review

The FAA has conducted an independent evaluation of the proposed action under the National Environmental Policy Act. In accordance with FAA Order 1050.1E, “Environmental Impacts: Policies and Procedures”, paragraph 401(p)(5), the FAA has determined that the airspace action requires no further environmental analysis. This airspace action raises the ceiling of the special use airspace without increasing or changing operations; therefore, it is not expected to cause any potentially significant environmental impacts, and no extraordinary circumstances exists that warrant preparation of an environmental assessment.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.50 [Amended]

2. Section 73.50 is amended as follows:

* * * * *

1. R-5002A Warren Grove, NJ [Amended]

By removing the current designated altitudes and using agency and substituting the following:

Designated altitudes. Surface to but not including 14,000 feet MSL.

Using agency. New Jersey ANG, 177th Fighter Wing, Atlantic City, NJ.

* * * * *

2. R-5002B Warren Grove, NJ [Amended]

By removing the current designated altitudes and using agency and substituting the following:

Designated altitudes. 1,000 feet MSL to but not including 14,000 feet MSL.

Using agency. New Jersey ANG, 177th Fighter Wing, Atlantic City, NJ.

* * * * *

3. R-5002C Warren Grove, NJ [Amended]

By removing the current using agency and substituting the following:

Using agency. New Jersey ANG, 177th Fighter Wing, Atlantic City, NJ.

* * * * *

4. R-5002D Warren Grove, NJ [Amended]

By removing the current using agency and substituting the following:

Using agency. New Jersey ANG, 177th Fighter Wing, Atlantic City, NJ.

* * * * *

5. R-5002E Warren Grove, NJ [Amended]

By removing the current designated altitudes and using agency and substituting the following:

Designated altitudes. 3,500 feet MSL to but not including 14,000 feet MSL.

Using agency. New Jersey ANG, 177th Fighter Wing, Atlantic City, NJ.

* * * * *

6. R-5002F Warren Grove, NJ [New]

Boundaries. Beginning at lat. 39°43′25″ N., long. 74°17′36″ W.;

to lat. 39°40′10″ N., long. 74°20′14″ W.; to lat. 39°38′50″ N., long. 74°21′19″ W.; to lat. 39°38′25″ N., long. 74°22′05″ W.; to lat. 39°38′25″ N., long. 74°24′19″ W.; to lat. 39°38′30″ N., long. 74°29′29″ W.; to lat. 39°39′20″ N., long. 74°29′59″ W.; to lat. 39°44′50″ N., long. 74°24′39″ W.; to lat. 39°44′50″ N., long. 74°19′19″ W.; to the point of beginning.

Designated altitudes. 14,000 feet MSL to but not including FL 200.

Time of designation. Sunrise to sunset; other times as activated by NOTAM issued at least 48 hours in advance.

Controlling agency. FAA, New York ARTCC.

Using agency. New Jersey ANG, 177th Fighter Wing, Atlantic City, NJ.

* * * * *

7. R-5002G Warren Grove, NJ [New]

Boundaries. Beginning at lat. 39°49′02″ N., long. 74°00′45″ W.; to lat. 39°38′18″ N., long. 74°12′34″ W.; to lat. 39°38′25″ N., long. 74°22′05″ W.; to lat. 39°38′25″ N., long. 74°24′19″ W.; to lat. 39°38′30″ N., long. 74°29′29″ W.; to lat. 39°39′20″ N., long. 74°29′59″ W.; to lat. 39°44′50″ N., long. 74°24′39″ W.; to lat. 39°49′02″ N., long. 74°16′18″ W.; to point of beginning.

Designated altitudes. FL 200 to FL 230.

Time of designation. Sunrise to sunset; other times as activated by NOTAM issued at least 48 hours in advance.

Controlling agency. FAA, New York ARTCC.

Using agency. New Jersey ANG, 177th Fighter Wing, Atlantic City, NJ.

Issued in Washington, DC, on December 5, 2011.
Gary A. Norek,
Acting Manager, Airspace, Regulations and ATC Procedures Group.

[FR Doc. 2011-31853 Filed 12-12-11; 8:45 am]

BILLING CODE 4910-13-P